DEPARTMENT OF LABOR

Occupational Safety and Health Administration

[Docket No. NRTL2-90]

SGS U.S. Testing Company, Inc.; Applications for Renewal and Expansion of Recognition

AGENCY: Occupational Safety and Health Administration (OSHA), Labor.

ACTION: Notice.

SUMMARY: This notice announces the applications of SGS U.S. Testing Company, Inc., (SGSUS) for renewal and expansion of its recognition, and presents the Agency's preliminary finding in favor of granting these requests. This preliminary finding does not constitute an interim or temporary approval of these applications.

DATES: You must submit information or comments, or any request for extension of the time to comment, by the following dates:

• Hard copy: postmarked or sent by October 23, 2006.

• Electronic transmission or facsimile: sent by October 23, 2006.

ADDRESSES: You may submit information or comments to this notice—identified by docket number NRTL2-90—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL2-90, U.S. Department of Labor, 200 Constitution Avenue, NW., Room N-2625, Washington, DC 20210; telephone (202) 693-2350. (OSHA's TTY number is (877) 889-5627.) OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, 200 Constitution Avenue, NW., Room N-3655, Washington, DC 20210. Or fax to (202) 693-1644.

FOR FURTHER INFORMATION CONTACT: Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Renewal and Expansion Applications

The Occupational Safety and Health Administration (OSHA) hereby gives notice that SGS U.S. Testing Company, Inc., (SGSUS) has applied for renewal and for expansion of its recognition as a Nationally Recognized Testing Laboratory (NRTL). The expansion request covers the use of additional test standards, while the SGSUS renewal request covers its existing scope of recognition. OSHA's current scope of recognition for SGSUS may be found in the following informational Web page: http://www.osha.gov/dts/otpca/nrtl/sgs.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to the SGSUS recognition covered an expansion of recognition, which became effective on May 12, 2000 (65 FR 30638). OSHA, however, issued a notice modifying the scope of a number of NRTLs to replace or delete withdrawn test standards (70 FR 11273, March 8, 2005). SGSUS was one of those NRTLs.

The current address of the SGSUS facility already recognized by OSHA is: SGS U.S. Testing Company, Inc., 291 Fairfield Avenue, Fairfield, New Jersey 07004.

General Background on the Renewal and Expansion Applications

SGSUS initially received OSHA recognition as an NRTL on March 23, 1993 (see 58 FR 15509), for a period of five years ending March 23, 1998. At the time, it was called U.S. Testing Company, Inc., California Division. SGSUS's initial recognition consisted of one site in California. It later sought and was granted recognition for a second site in Fairfield, New Jersey. Appendix A to 29 CFR 1910.7 stipulates that the period of recognition of an NRTL is five years and that an NRTL may renew its recognition by applying not less than nine months, nor more than one year, before the expiration date of its current recognition. NRTLs submitting requests within this allotted time period retain their recognition during OSHA's renewal process. SGSUS submitted the required information and received its first renewal of recognition on August 28, 1998 (63 FR 46084), for the five-year period ending August 28, 2003.

SGSUS applied on October 2, 2002, (see Exhibit 18-1) for renewal of its recognition, again within the time allotted. However, partly as a result of changes SGSUS was considering or undergoing at the time, we deferred the renewal process. Those changes included the eventual voluntary termination of its California site from the NRTL Program (see 69 FR 68407, November 24, 2004) leaving only the Fairfield site as part of its renewal request. SGSUS then applied on September 28, 2005, for expansion of its recognition to add seven test standards to its scope. The NRTL Program staff has determined that each of these standards is an “appropriate test standard” within the meaning of 29 CFR 1910.7(c). The staff makes similar determinations in processing expansion requests from any NRTL. Therefore, OSHA would approve all of these test standards for the expansion.

OSHA staff performed an on-site visit of the NRTL's Fairfield site in September 2005. Based on this visit, the staff recommended continued recognition of SGSUS and the expansion it requested, respectively, in November 2005 and February 2006 (see Exhibits 18-3 and 18-4). The SGSUS existing scope of recognition consists of the facility listed above, and the test standards listed below and the supplemental programs listed under Programs and Procedures.

SGSUS seeks renewal of its recognition for continued testing and certification of products for demonstration of conformance to the following test standards:

UL 1 Flexible Metal Conduit.

* UL 3 Flexible Nonmetallic Tubing for Electric Wiring.

UL 94 Tests for Flammability of Plastic Materials for Parts in Devices and Appliances.

UL 250 Household Refrigerators and Freezers.

UL 514A Metallic Outlet Boxes.

UL 544 Electric Medical and Dental Equipment.

UL 632 Electrically-Actuated Transmitters.

UL 696 Electric Toys.

UL 697 Toy Transformers

UL 751 Vending Machines.

UL 913 Intrinsically Safe Apparatus and Associated Apparatus for Use in Class I, II, and III, Division I, Hazardous (Classified) Locations.

UL 1012 Power Units Other Than Class 2.

UL 1236 Battery Chargers for Charging Engine-Starter Batteries.

UL 1310 Class 2 Power Units.

UL 1484 Residential Gas Detectors.

UL 1492 Audio-Video Products and Accessories.

UL 1598 Luminaries.

UL 1604 Electrical Equipment for Use in Class I and II, Division 2, and Class III Hazardous (Classified) Locations.

UL 6500 Audio/Visual and Musical Instrument Apparatus for Household, Commercial, and Similar General Use.

UL 60065 Audio, Video and Similar Electronic Apparatus.

UL 60601-1 Medical Electrical Equipment, Part 1: General Requirements for Safety.

UL 60950 Information Technology Equipment.

UL 61010A-1 Electrical Equipment For Laboratory Use; Part 1: General Requirements.

UL 61010B-1 Electrical Measuring and Test Equipment; Part 1: General Requirements.

* This test standard has been withdrawn by the standards developing organization. Since other NRTLs also are approved for this standard, we would include it in the SGSUS renewal temporarily until we publish a notice to delete all withdrawn standards from the recognition of all NRTLs.

The designations and titles of the above test standards, and those listed below, were current at the time of the preparation of this notice.

OSHA's recognition of SGSUS, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal would include continued use by SGSUS of supplemental programs 2, 3, 4, and 9.

Program 2: Acceptance of testing data from independent organizations, other than NRTLs.

Program 3: Acceptance of product evaluations from independent organizations, other than NRTLs.

Program 4: Acceptance of witnessed testing data.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Expansion of Recognition

SGSUS seeks expansion of its recognition for testing and certification of products for demonstration of conformance to the following test standards:

UL 62 Flexible Cord and Fixture Wire.

UL 355 Cord Reels.

UL 498 Attachment Plugs and Receptacles.

UL 498A Current Taps and Adapters.

UL 817 Cord Sets and Power-Supply Cords.

UL 1363 Relocatable Power Taps.

UL 1581 Electrical Wires, Cables, and Flexible Cords.

Preliminary Finding

SGSUS has submitted acceptable requests for renewal and expansion of its recognition as an NRTL. Our review of the application file, the assessor's recommendations, and other pertinent documents, indicates that SGSUS can meet the requirements, as prescribed by 29 CFR 1910.7, for: (1) The renewal of the one site and the test standards and programs listed above, and (2) the expansion for the additional seven tests standards also noted. This preliminary finding does not constitute an interim or temporary approval of these applications.

OSHA welcomes public comments, in sufficient detail, as to whether SGSUS has met the requirements of 29 CFR 1910.7 for the renewal and expansion of its recognition as an NRTL. Your comments should consist of pertinent written documents and exhibits. Should you need more time to comment, you must request it in writing, including reasons for the request. OSHA must receive your written request for extension at the address provided above no later than the last date for comments. OSHA will limit any extension to 30 days, unless the requester justifies a longer period. You may obtain or review copies of the SGSUS request, the on-site review report, other pertinent documents, and all submitted comments, as received, by contacting the Docket Office, Room N2625, Occupational Safety and Health Administration, U.S. Department of Labor, at the above address. Docket No. NRTL2-90 contains all materials in the record concerning the SGSUS application.

The NRTL Program staff will review all timely comments and, after resolution of issues raised by these comments, will recommend whether to grant the SGSUS renewal and expansion requests. The Assistant Secretary will make the final decision on granting these requests and, in making this decision, may undertake other proceedings that are prescribed in Appendix A to 29 CFR 1910.7. OSHA will publish a public notice of this final decision in the Federal Register.

Signed at Washington, DC, this 25th day of September, 2006.
Edwin G. Foulke, Jr.,
Assistant Secretary.

[FR Doc. E6-16589 Filed 10-5-06; 8:45 am]

BILLING CODE 4510-26-P